DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Sea Scallop Framework 16 Adjustment.

Form Number(s): None.

OMB Approval Number: 0648-0509.

Type of Request: Regular submission.

Burden Hours: 863.

Number of Respondents: 274.

Average Hours Per Response: 40 seconds.

Needs and Uses: Sea scallop fishermen, fishing under the general category permit, wishing to fish in exemption areas are subject to certain vessel monitoring system (VMS) and communication reporting requirements. This submission requests clearance for an extension of a collection as it pertains to Framework 16 to the Sea Scallop Fishery Management Plan reporting requirements that all scallop vessels including general category vessels fishing in reopened closed areas have a functional VMS.

Affected Public: Business or other for-profit organizations; individuals or households; not-for-profit institutions.

Frequency: Monthly, hourly, weekly, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 23, 2005.
Gwellnar Banks,
Management Analyst, Office of the Chief Information Officer.

[FR Doc. 05-12785 Filed 6-28-05; 8:45 am]

BILLING CODE 3510-22-P